DEPARTMENT OF AGRICULTURE

Rural Telephone Bank

Sunshine Act Meeting

AGENCY: Rural Telephone Bank, USDA.

ACTION: Board of Directors meeting.

Time and Date: 9 a.m., Wednesday, January 8, 2003.

Place: Room 0204, South Building, U.S. Department of Agriculture, 14th and Independence Avenue, SW., Washington, DC.

Status: Open.

Matters to be Considered: The following matters have been placed on the agenda for the Board of Directors meeting:

1. Call to order.

2. Consideration of the following amendment to the Article V of the Bylaws to allow for meeting by electronic means: SEC. 5.6 Meetings of the Board of Directors may be held by any electronic means, including, without limitation, telephone or any other communications equipment, provided that, during the meeting, all persons participating can clearly and promptly hear, send, and receive all messages or spoken words. Participation in such a meeting shall constitute presence at the meeting.

3. Report on Privatization Study.

4. Adjournment.

Contact Person For More Information: Roberta D. Purcell, Assistant Governor, Rural Telephone Bank, (202) 720-9554.

Dated: December 20, 2002.
Hilda Gay Legg,
Governor, Rural Telephone Bank.

[FR Doc. 02-32751 Filed 12-23-02; 2:23 pm]

BILLING CODE 3410-15-M